DEPARTMENT OF THE INTERIOR

U.S. Geological Survey

Agency Information Collection Activities: Comment Request for the USGS Mine, Development, and Mineral Exploration Supplement

AGENCY: U.S. Geological Survey (USGS), Interior.

ACTION: Notice of an extension of an information collection (1028-0060).

SUMMARY: To comply with the Paperwork Reduction Act of 1995 (PRA), we are notifying the public that we have submitted to the Office of Management and Budget (OMB) an information collection request (ICR) for the extension of the currently approved paperwork requirements for the USGS Mine, Development, and Mineral Exploration Supplement. This collection consists of one form and this notice provides the public an opportunity to comment on the paperwork burden of this form. We may not conduct or sponsor, and a person is not required to respond to, a collection of information unless it displays a currently valid OMB control number.

DATES: You must submit comments on or before October 22, 2009.

ADDRESSES: Please submit written comments on this information collection directly to the Office of Management and Budget (OMB) Office of Information and Regulatory Affairs, Attention: Desk Officer for the Department of the Interior via e-mail to OIRA_DOCKET@omb.eop.gov or fax at 202-395-5806; and identify your submission as 1028-1060. Please also submit a copy of your written comments to Phadrea Ponds, USGS Information Collection Clearance Officer, 2150-C Centre Avenue, Fort Collins, CO 80526-8118 (mail); 970-226-9230 (fax); or pponds@usgs.gov (e-mail). Use OMB Control Number 1028-0060 in the subject line.

FOR FURTHER INFORMATION CONTACT: Shonta E. Osborne at 703-648-7960 or by mail at U.S. Geological Survey, 985 National Center, 12201 Sunrise Valley Drive, Reston, VA 20192.

I. Supplementary Information

Abstract: Respondents supply the U.S. Geological Survey with domestic production, exploration, and mine development data for nonfuel mineral commodities. The data obtained from this canvass are used by Government agencies, Congressional offices, educational institutions, research organizations, financial institutions, consulting firms, industry, and the public. They provide essential mining, exploration, and development information to make domestic ore resource analyses. Tabulations of volumetric data concerning domestic mining operations' use of land can be used to compare the total volume of earth disturbed with the actual crude ore mined and the resulting marketable product. These data are an indicator of the future mining outlook. This information will be published as an Annual Report for use by Government agencies, industry, academia, and the general public.

II. Data

OMB Control Number: 1028-0060.

Title: Mine, Development, and Mineral Exploration Supplement.

Type of Request: Extension of a currently approved collection.

Respondent Obligation: Voluntary.

Frequency of Collection: Annually.

Affected Public: Businesses that explore for and produce nonfuel minerals.

Estimated Number of Annual Responses: 719.

Annual Burden Hours: 539 hours. We expect to receive 719 annual responses. We estimate an average of 45 minutes per response. This includes the time for reviewing instructions, gathering and maintaining data, and completing and reviewing the information.

Estimated Reporting and Recordkeeping “Non-Hour Cost” Burden: We have not identified any “non-hour cost” burdens associated with this collection of information.

III. Request for Comments

On May 27, 2009, we published a Federal Register notice (74 FR 25273) announcing that we would submit this ICR to OMB for approval and solicit comments. The comment period closed on July 27, 2009. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address, or other personal identifying information in your comment, you should be aware that your entire comment, including your personal identifying information, may be made publicly available at anytime. While you can ask us in your comment to withhold your personal identifying information from public review, we cannot guarantee that we will be able to do so.

USGS Information Collection Clearance Officer: Phadrea Ponds 970-226-9445.

Dated: September 16, 2009.
John H. DeYoung, Jr.,
Chief Scientist, Minerals Information Team.

[FR Doc. E9-22741 Filed 9-21-09; 8:45 am]

BILLING CODE 4311-AM-P